DEPARTMENT OF LABOR

Employment and Training Administration

[TA-W-55,172]

Cardinal Health Medical Products & Services Division, El Paso, Texas; Notice of Termination of Investigation

Pursuant to Section 221 of the Trade Act of 1974, as amended, an investigation was initiated on June 30, 2004, in response to a worker petition filed by a company official on behalf of workers at Cardinal Health, Medical Products & Services Division, El Paso, Texas.

The petitioner has requested that the petition be withdrawn. Consequently, further investigation would serve no purpose and the investigation has been terminated.

Signed at Washington, DC, this 22nd day of July, 2004.
Elliott S. Kushner,
Certifying Officer, Division of Trade Adjustment Assistance.

[FR Doc. 04-18230 Filed 8-9-04; 8:45 am]

BILLING CODE 4510-30-P